DEPARTMENT OF HEALTH AND HUMAN SERVICES

National Institutes of Health

Center for Scientific Review; Amended Notice of Meeting

Notice is hereby given of a change in the meeting of the Hypersensitivity, Autoimmune, and Immune-mediated Diseases Study Section, June 6, 2019, 08:00 a.m. to June 7, 2019, 05:00 p.m., which was published in the Federal Register on May 09, 2019, 84 FR PG 20377.

The meeting location is being changed to Hilton Garden Inn Washington DC/Georgetown, 2201 M Street NW, Washington, DC. Meeting dates remain the same. The meeting is closed to the public.

Dated: May 16, 2019.
Natasha M. Copeland,
Program Analyst, Office of Federal Advisory Committee Policy.

[FR Doc. 2019-10601 Filed 5-21-19; 8:45 am]

BILLING CODE 4140-01-P